DEPARTMENT OF THE INTERIOR

National Park Service

Notice of Inventory Completion for Native American Human Remains and Associated Funerary Objects in the Possession of the American Museum of Natural History, New York, NY

AGENCY: National Park Service, Interior.

ACTION: Notice.

Notice is hereby given in accordance with provisions of the Native American Graves Protection and Repatriation Act (NAGPRA), 43 CFR 10.9, of the completion of an inventory of human remains and associated funerary objects in the possession of the American Museum of Natural History, New York, NY.

This notice is published as part of the National Park Service's administrative responsibilities under NAGPRA, 43 CFR 10.2(c). The determinations within this notice are the sole responsibility of the museum, institution, or Federal agency that has control of these Native American human remains and associated funerary objects. The National Park Service is not responsible for the determinations within this notice.

A detailed assessment of the human remains was made by American Museum of Natural History professional staff in consultation with representatives of the Seneca-Cayuga Tribe of Oklahoma, the Seneca Nation of New York, and the Tonawanda Band of Seneca Indians of New York.

In 1907, human remains representing a minimum of three individuals were collected by Alanson B. Skinner, as part of a museum expedition, from Gandougarae, East Bloomfield, Ontario County, NY. No known individuals were identified. No associated funerary objects are present.

These individuals have been identified as Native American based on American Museum of Natural History documentation that refers to the site and its inhabitants as “Seneca.” According to both museum documentation and scholarly literature, the Gandougarae site was a post-contact village occupied until 1671. Apparently this village was also called St. Michel. The manner of interment is consistent with post-contact Seneca practices of inhumation (in clan cemeteries).

Based on the above-mentioned information, officials of the American Museum of Natural History have determined that, pursuant to 43 CFR 10.2(d)(1), the human remains listed above represent the physical remains of a minimum of three individuals of Native American ancestry. Also, officials of the American Museum of Natural History have determined that, pursuant to 43 CFR 10.2(e), there is a relationship of shared group identity that can be reasonably traced between these Native American human remains and the Seneca-Cayuga Tribe of Oklahoma, the Seneca Nation of New York, and the Tonawanda Band of Seneca Indians of New York.

This notice has been sent to officials of the Seneca-Cayuga Tribe of Oklahoma, the Seneca Nation of New York, and the Tonawanda Band of Seneca Indians of New York. Representatives of any other Indian tribe that believes itself to be culturally affiliated with these human remains should contact Martha Graham, Director of Cultural Resources, American Museum of Natural History, Central Park West at 79th Street, New York, NY 10024-5192, telephone (212) 769-5846, before May 21, 2001. Repatriation of the human remains to the Seneca-Cayuga Tribe of Oklahoma, the Seneca Nation of New York, and the Tonawanda Band of Seneca Indians of New York may begin after that date if no additional claimants come forward.

Dated: March 30, 2001.
John Robbins,
Assistant Director, Cultural Resources Stewardship and Partnerships.

[FR Doc. 01-9762 Filed 4-19-01; 8:45 am]

BILLING CODE 4310-70-F